DEPARTMENT OF THE INTERIOR

Bureau of Indian Affairs

25 CFR Part 150

[212A2100DD/AAKC001030/A0A501010.999900]

RIN 1076-AF56

Indian Land Title and Records; Correction

AGENCY: Bureau of Indian Affairs, Interior.

ACTION: Final rule; correction.

SUMMARY: This document corrects a typographical error in the preamble to the final rule that revised Bureau of Indian Affairs (BIA) regulations governing the Land Title and Records Office (LTRO) to reflect modernization of the LTRO. The correction clarifies that the LTRO provides documents to the agency, rather than to itself.

DATES: Effective October 25, 2021.

FOR FURTHER INFORMATION CONTACT: Elizabeth Appel, Director, Office of Regulatory Affairs & Collaborative Action, (202) 273-4680; elizabeth.appel@bia.gov.

SUPPLEMENTARY INFORMATION:

Correction

In rule document 2021-17377 at 86 FR 45631 in the issue of August 16, 2021, on page 45637, in the first column, the third full paragraph is corrected to read as follows:

Response: The agency who is the originating office is responsible for curing any omission or error. When LTRO discovers a defect, LTRO sends the documents electronically in real time to the agency for correction. Once LTRO receives the corrected document, the timeframes applicable to recording of any document applies.

The original publication contained a typographical error stating that LTRO would send the documents electronically in real time to the LTRO for correction.

Bryan Newland,
Assistant Secretary—Indian Affairs.

[FR Doc. 2021-23063 Filed 10-22-21; 8:45 am]

BILLING CODE 4337-15-P